DEPARTMENT OF ENERGY

Federal Energy Regulatory Commission

[Project No. 2512-079]

Hawks Nest Hydro, LLC; Notice of Comment Period Extension

On December 12, 2018, the Commission issued a notice setting January 12, 2019, as the end of the formal period to file comments, motions to intervene, and protests for a Recreation Management Plan for the Hawks Nest Hydroelectric Project No. 2512. The project is located on the New River, just upstream of the confluence of the New and Gauley Rivers, near the Town of Ansted in Fayette County, West Virginia. Due to the funding lapse at certain federal agencies between December 22, 2018 and January 25, 2019, the Commission is extending the comment period until March 4, 2019.

Dated: February 11, 2019.
Kimberly D. Bose,
Secretary.

[FR Doc. 2019-02708 Filed 2-19-19; 8:45 am]

BILLING CODE 6717-01-P